DEPARTMENT OF JUSTICE

Notice of Lodging of Consent Decree Under the Comprehensive Environmental Response, Compensation and Liability Act (“CERCLA”)

On November 9, 2012, the Department of Justice lodged a proposed consent decree (“proposed Decree”) with the United States District Court for the Western District of Pennsylvania in the lawsuit entitled United States and the Commonwealth of Pennsylvania Department of Environmental Protection v. Cast Parts, Inc, et al., Civil Action No. 12-1656.

The United States filed this lawsuit under the Comprehensive Environmental Response, Compensation and Liability Act (CERCLA). The United States' complaint names Cast Parts, Inc., Energy Control Systems, Inc., Gutierrez Machine Corporation, Kirschbaum-Krupp Metal Corporation, K&K Metal Recycling, LLC., Lavigne Manufacturing Co., M.J. Metal, Inc., Marshalltown Company, Metal Mart International, Inc., Middletown Aerospace Corporation, Mid-State Investment Company, Mid-State Machine Company, LLC, National Machine Company, Premco, Inc., Rolls-Royce Corporation, Black & Decker (U.S.) Inc., Johns Hopkins University, Johns Hopkins University Applied Physics Laboratory, LLC, and Winter's Performance Products as defendants. The complaint requests recovery of costs that the United States incurred responding to releases of hazardous substances at the Remacor Superfund Site in West Pittsburg, Lawrence County, Pennsylvania. All defendants signed the consent decree, and collectively agree to pay $1,110,865.40 of the United States' response costs. In return, the United States agrees not to sue the defendants under sections 106 and 107 of CERCLA, 42 U.S.C. 9606 and 9607(a).

The publication of this notice opens a period for public comment on the proposed Decree. Comments should be addressed to the Assistant Attorney General, Environment and Natural Resources Division, and should refer to United States and the Commonwealth of Pennsylvania Department of Environmental Protection v. Cast Parts, Inc. et al., D.J. Ref. No. 90-11-3-09682/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $10.25 (25 cents per page reproduction cost) payable to the United States Treasury.

Maureen Katz,
Assistant Section Chief, Environmental Enforcement Section, Environment and Natural Resources Division.

[FR Doc. 2012-27874 Filed 11-15-12; 8:45 am]

BILLING CODE 4410-15-P